DEPARTMENT OF THE TREASURY

Submission for OMB Review; Comment Request

January 27, 2014.

The Department of the Treasury will submit the following information collection requests to the Office of Management and Budget (OMB) for review and clearance in accordance with the Paperwork Reduction Act of 1995, Public Law 104-13, on or after the date of publication of this notice.

DATES: Comments should be received on or before March 3, 2014 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Bureau of the Fiscal Service

OMB Number: 1535-0069.

Type of Review: Revision of a currently approved collection.

Title: Legacy Treasury Direct Forms.

Form: PD Forms 5178, 5179, 5182, 5188, 5191, 5235, and 5236.

Abstract: Used to purchase and maintain Treasury Bills, Notes and Bonds.

Affected Public: Individuals or Households.

Estimated Annual Burden Hours: 4,528.

OMB Number: 1535-0122.

Type of Review: Extension without change of a currently approved collection.

Title: Voluntary Customer Satisfaction Survey to Implement Executive Order 12862.

Abstract: Voluntary Survey to determine customer satisfaction levels with current programs and explore ways to meet future needs of customers.

Affected Public: Individuals or Households.

Estimated Burden Hours: 876.

OMB Number: 1535-0128.

Type of Review: Revision of a currently approved collection.

Title: Direct Deposit Sign-Up Form.

Form: PD F 5396.

Abstract: Used to request the direct deposit of Series HH or Series H bond interest payments or a savings bond redemption payment.

Affected Public: Individuals or Households.

Estimated Annual Burden Hours: 9,167.

Dawn D. Wolfgang,
Treasury PRA Clearance Officer.

[FR Doc. 2014-01829 Filed 1-29-14; 8:45 am]

BILLING CODE 4810-39-P